ENVIRONMENTAL PROTECTION AGENCY

[ER-FRL-6697-7]

Environmental Impacts Statements; Notice of Availability

Responsible Agency: Office of Federal Activities, General Information (202) 564-7167 or http://www.epa.gov/compliance/nepa/.

Weekly receipt of Environmental Impact Statements

Filed 03/31/2008 Through 04/04/2008

Pursuant to 40 CFR 1506.9.

EIS No. 20080125, Draft EIS, FHW, NC, I-26 Connector Project, Proposed Multi-Land Freeway from I-40 to US 19-23-70 North of Asheville, Funding, U.S. Coast Guard Permit, US Army COE Section 10 and 404 Permit, Buncombe County, Asheville, NC, Comment Period Ends: 05/19/2008, Contact: John F. Sullivan, III, P.E. 919-856-4346 Ext. 122

EIS No. 20080126, Draft EIS, AFS, ID, Corralled Bear Project, Management of Vegetation, Hazardous Fuels, and Access, Plus Watershed Improvements, Palouse Ranger District, Clearwater National Forest, Latah County, ID, Comment Period Ends: 05/19/2008, Contact: Kara Chadwick 208-875-1131.

EIS No. 20080127, Final Supplement, FHW, MT, US 93 Highway Ninepipe/Ronan Improvement Project, from Dublin Gulch Road/Red Horn Road, Funding, Special-Use-Permit, NPDES Permit and U.S. Army COE Section 404 Permit, Lake County, MT, Wait Period Ends: 05/05/2008, Contact: Craig Genzlinger, P.E. 406-449-5302.

EIS No. 20080128, Draft Supplement, MMS, 00, Gulf of Mexico Outer Continental Shelf Oil and Gas Lease Sales: 2009-2012 Western Planning Area Sales: 210 in 2009, 215 in 2010, and 218 in 2011, and Central Planning Area Sales: 208 in 2009, 213 in 2010, 216 in 2011, and 222 in 2012, TX, LA, MS, AL and FL, Comment Period Ends: 06/03/2008, Contact: Dr. Mary Boatman 703-737-1662.

EIS No. 20080129, Draft EIS, FHW, UT, Layton Interchange Project, Improvements on I-15 (Exit-330) to Provide Unrestricted Access Across the Unicon Pacific Railroad and to Address Traffic Congestion on Gentile St. in West Layton, Layton City, UT, Comment Period Ends: 05/27/2008, Contact: Doug Atkin 801-963-0182.

EIS No. 20080130, Final EIS, AFS, 00, Mt. Ashland Late-Successional Reserve Habitat Restoration and Fuels Reduction Project, To Promote and Maintain Late-Successional Habitat, Oak Knoll Ranger District, Klamath National Forest, Siskiyou County, CA and Jackson County, OR, Wait Period Ends: 05/05/2008, Contact: Susan Stresser 530-841-4538.

EIS No. 20080131, Final EIS, AFS, CA, Eldorado National Forest Public Wheeled Motorized Travel Management Project, Proposes to Regulate Unmanaged Public Wheeled Motor Vehicle, Implementation, Alphine, Amador, El Dorado and Placer Counties, CA, Wait Period Ends: 05/05/2008, Contact: Laura Hierholzer 530-647-5382.

EIS No. 20080132, Final EIS, USN, VA, Marine Corps Base Quantico (MCBQ) Virginia Project, Proposes Development of the Westside of MCBQ and the 2005 Base Realignment and Closure Action at MCBQ, Implementation, Quantico, VA, Wait Period Ends: 05/05/2008, Contact: Jeff Gardner 703-432-6784.

Amended Notices

EIS No. 20080111, Draft EIS, COE, 00,Programmatic—Hydropower Rehabilitations, Dissolved Oxygen and Minimum Flow Regimes at Wolf Creek Dam, Kentucky and Center Hill and Dale Hollow Dams, Tennessee, Implementation, Comment Period Ends: 05/12/2008, Contact: Chip Hall 615-736-7666.

Revision to FR Notice Published 03/28/2008: EIS is withdrawn due to Non-Distribution of the document.

Dated: April 8, 2008.
Ken Mittelholtz,
Environmental Protection Specialist, Office of Federal Activities.

[FR Doc. E8-7787 Filed 4-10-08; 8:45 am]

BILLING CODE 6560-50-P